NUCLEAR REGULATORY COMMISSION

Agency Information Collection Activities: Proposed Collection: Comment Request

AGENCY: U.S. Nuclear Regulatory Commission (NRC).

ACTION: Notice of pending NRC action to submit an information collection request to OMB and solicitation of public comment.

SUMMARY: The NRC is preparing a submittal to OMB for approval of information collections under the provisions of the Paperwork Reduction Act of 1995 (44 U.S.C. Chapter 35).

Information pertaining to the requirement to be submitted:

1. The title of the information collection: NRC Form 770, Application for the NRC Graduate Fellowship Program.

2. Current OMB approval number: 3150-XXXX.

3. How often the collection is required: On occasion. NRC Form 770 must be submitted by an applicant to the NRC Graduate Fellowship Program so that their qualifications and credentials can be assessed.

4. Who is required or asked to report: Any applicant for the NRC Graduate Fellowship Program.

5. The estimated number of annual respondents: 30 respondents.

6. The number of hours needed annually to complete the requirement or request: 240 hours (8 hours per response).

7. Abstract: Information requested on NRC Form 770 and in the application package is used to determine the qualifications of applicants for participation in the Graduate Fellowship Program which results in employment with the U.S. Nuclear Regulatory Commission. The information requested on the form includes social security number, education, employment history, and references. In addition to the form, the application package also requests the candidate's official Graduate Record Examination scores (sent by the Educational Testing Service to ORISE), official transcripts, and three references. The completed package may be used to examine, rate and/or assess the prospective employee's qualifications. The information regarding the qualifications of applicants for employment is reviewed by professional personnel acting under contract to the NRC and/or by NRC staff.

Submit, by April 18, 2006, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Brenda Jo. Shelton, U.S. Nuclear Regulatory Commission, T-5 F53, Washington, DC 20555-0001, by telephone at 301-415-7233, or by Internet electronic mail to INFOCOLLECTS@NRC.GOV.

Dated at Rockville, Maryland, this 3rd day of February 2006.
For the Nuclear Regulatory Commission.
Brenda Jo. Shelton,
NRC Clearance Officer, Office of Information Services.

[FR Doc. E6-2346 Filed 2-16-06; 8:45 am]

BILLING CODE 7590-01-P